DEPARTMENT OF ENERGY

Federal Energy Regulatory Commission

[Docket No. EC02-12-000, et al.]

PSEG Power New York, Inc., et al.; Electric Rate and Corporate Regulation Filings

November 6, 2001.

Take notice that the following filings have been made with the Commission:

1. PSEG Power New York Inc.

[Docket No. EC02-12-000]

Take notice that on October 26, 2001, PSEG Power New York Inc. (PSEG New York) filed with the Federal Energy Regulatory Commission (the Commission) a request for Commission authorization under section 203 of the Federal Power Act (FPA) for the sale of Applicant's Albany Steam Station to the Town of Bethlehem Industrial Development Agency (the Agency), and the contemporaneous lease back of the Albany Steam Station to PSEG New York. Additionally, PSEG New York also requests any necessary section 203 authority to exercise its option rights to purchase back its jurisdictional facilities from the Agency.

Comment date: November 16, 2001, in accordance with Standard Paragraph E at the end of this notice.

2. Attala Generating Company, LLC

[Docket Nos. EC02-13-000 and EL02-13-000]

Take notice that on October 25, 2001, Attala Generating Company, LLC (Attala) filed with the Commission a request: (1) A request for authorization under section 203 of the Federal Power Act (FPA) of a sale/leaseback transaction and the assignment of a tolling agreement; (2) a request for a determination that neither the owner lessor nor the owner participant in the sale/leaseback transaction is a “public utility” under section 201(f) of the FPA.

Comment date: November 21, 2001, in accordance with Standard Paragraph E at the end of this notice.

3. Cleco Evangeline LLC

[Docket Nos. EC02-14-000 and EL02-14-000]

Take notice that on October 26, 2001, Cleco Evangeline LLC filed with the Commission an Application: (1) Seeking Commission authorization under section 203 of the Federal Power Act to transfer certain Jurisdictional Assets ; and, (2) seeking an order from the Commission that passive financial participants involved in the transaction will not be considered a “public utility” under section 201 of the FPA.

Comment date: November 21, 2001, in accordance with Standard Paragraph E at the end of this notice.

4. Cinergy Services, Inc., on behalf of Cinergy Corp., The Cincinnati Gas & Electric Company, Cinergy Power Investments, Inc. and Cinergy Wholesale Energy, Inc.

[Docket Nos. EC02-15-000, EG02-13-000 and ER02-177-000]

Take notice that on October 29, 2001, Cinergy Services, Inc., on behalf of Cinergy Corp., The Cincinnati Gas & Electric Company, Cinergy Power Investments, Inc., and Cinergy Wholesale Energy, Inc. (collectively, Applicants) tendered for filing an application requesting all necessary authorizations under section 203 of the Federal Power Act, 16 U.S.C. 824b (2000), for Applicants to engage in a corporate reorganization.

Copies of this filing have been served on the Public Utilities Commission of Ohio, the Kentucky Public Service Commission and the Indiana Utility Regulatory Commission.

Comment date: November 21, 2001, in accordance with Standard Paragraph E at the end of this notice.

5. Minnesota Power, Rainy River Energy Corporation—Taconite Harbor, and LTV Steel Mining Company

[Docket No. EC02-16-000]

Take notice that on November 1, 2001, LTV Steel Mining Company (LTVSMC), Minnesota Power (MP) and Rainy River Energy Corporation—Taconite Harbor (RRTH) filed with the Federal Energy Regulatory Commission (Commission) a joint application (Application) pursuant to section 203 of the Federal Power Act seeking authorization for LTVSMC to Sell and MP and RRTH to acquire certain jurisdictional facilities including a dual-circuit transmission line, substation and step-up transformers. The transaction also involves the acquisition by RRTH of three 75 MW generating facilities from LTVSMC.

MP owns and operates generation, transmission and distribution facilities and provides electricity to 138,000 customers in northeastern Minnesota and northwestern Wisconsin. RRTH has filed an application for Exempt Wholesale Generator Status and is seeking Commission acceptance of its market-based rate tariff. LTVSMC engaged in the mining and beneficiation of taconite into taconite pellets and in the generation and transmission of electric power.

The applicants have also requested that the Commission process the Application on an expedited basis and LTV has provided contingent notice of the termination of its jurisdictional rate schedules.

Comment date: November 26, 2001, in accordance with Standard Paragraph E at the end of this notice.

6. NorthWestern Corporation

[Docket No. ES02-6-000]

Take notice that on October 31, 2001, NorthWestern Corporation (NorthWestern) submitted an application under section 204 of the Federal Power Act seeking authorization to issue indebtedness pursuant to a credit facility or other evidence of indebtedness to be established and maintained with one or more financial institutions pursuant to one or more agreements pursuant to which NorthWestern may borrow funds from time to time during such term, on a revolving credit basis or otherwise, up to a maximum principal amount of $1,100,000,000.

NorthWestern also requested a waiver from the Commission's competitive bidding and negotiated placement requirements at 18 CFR 34.2.

Comment date: November 26, 2001, in accordance with Standard Paragraph E at the end of this notice.

7. Florida Power & Light Co.

[Docket Nos. OA96-39-008, ER93-465-031, ER93-922-017, EL94-12-012 and ER96-2381-005]

Take notice that on November 1, 2001, Florida Power & Light Company (FPL) filed with the Federal Energy Regulatory Commission a correction to one of the Open Access Transmission Tariff revised sheets it filed on October 15, 2001. FPL states that the filing corrects Sheet No. 132, line 12 by deleting the word “Monthly” which inadvertently was not deleted in the revised sheet filed October 15, 2001.

Comment date: November 23, 2001, in accordance with Standard Paragraph E at the end of this notice.

8. American Ref-Fuel Company of Delaware Valley, L.P.

[Docket No. QF87-492-003]

Take notice that on November 1, 2001, American Ref-Fuel Company of Delaware Valley, L.P. (ARC Delaware Valley) of Timberway One—Suite 200, 15990 North Barker's Landing, Houston, Texas 77079 filed with the Federal Energy Regulatory Commission an application for recertification of a facility as a qualifying small power production facility pursuant to 292.207(b) of the Commission's regulations and a request for expedited action.

ARC Delaware Valley seeks to recertify its small power production facility located in Chester, Pennsylvania as a qualifying facility if it modifies the facility to produce an additional 5-10 MW of power above 80 MW and to sell that power at market-based rates as exempt wholesale generated power into the PJM Interconnection, L.L.C. market.

ARC Delaware Valley is interconnected to the transmission system of PECO Energy Company and sells most of the power from the facility to Conectiv.

Comment date: December 3, 2001, in accordance with Standard Paragraph E at the end of this notice.

9. Amerada Hess Corporation

[Docket No. ER97-2153-012]

Take notice that on November 1, 2001, the Amerada Hess Corporation (AHC) filed with the Federal Energy Regulatory Commission (Commission) its 3-year updated market analysis in support of its market-based rate authority. AHC reports that there have been no changes in its status that should affect its continued authority to sell power at market-based rates.

Comment date: November 23, 2001, in accordance with Standard Paragraph E at the end of this notice.

10. Hess Energy, Inc.

[Docket No. ER97-4381-006]

Take notice that on November 1, 2001, Hess Energy, Inc. (Hess Energy) filed with the Federal Energy Regulatory Commission (Commission) its 3-year updated market analysis in support of its market-based rate authority. Hess Energy reports that there have been no changes in its status that should affect its continued authority to sell power at market-based rates.

Comment date: November 23, 2001, in accordance with Standard Paragraph E at the end of this notice.

11. Portland General Electric Company

[Docket No. ER01-2501-006]

Take notice that on November 1, 2001, Portland General Electric Company (PGE) tendered for filing with the Federal Energy Regulatory Commission (FERC or Commission) termination of FERC Rate Schedule No. 31 and refiling of FERC Rate Schedule No. 210 to conform the Pacific Northwest Coordination Agreement in accordance to FERC Rule 614.

PGE respectfully requests that the Commission allow the Rate Schedule to become effective January 1, 2002.

Comment date: November 23, 2001, in accordance with Standard Paragraph E at the end of this notice.

12. Northern Indiana Public Service Company

[Docket No. ER02-231-000]

Take notice that on November 1, 2001, Northern Indiana Public Service Company (Northern Indiana) filed with the Federal Energy Regulatory Commission (Commission) a Service Agreement pursuant to its Wholesale Market-Based Rate Tariff with DTE Energy Trading (DTE). Northern Indiana has requested an effective date of November 1, 2001.

Copies of this filing have been sent to DTE, the Indiana Utility Regulatory Commission, and the Indiana Office of Utility Consumer Counselor.

Comment date: November 23, 2001, in accordance with Standard Paragraph E at the end of this notice.

13. Northern Indiana Public Service Company

[Docket No. ER02-232-000]

Take notice that on November 1, 2001, Northern Indiana Public Service Company (Northern Indiana) filed with the Federal Energy Regulatory Commission (Commission) a Service Agreement pursuant to its Wholesale Market-Based Rate Tariff with HQ Energy Services (U.S.) Inc. (HQ). Northern Indiana has requested an effective date of November 1, 2001.

Copies of this filing have been sent to HQ, the Indiana Utility Regulatory Commission, and the Indiana Office of Utility Consumer Counselor.

Comment date: November 23, 2001, in accordance with Standard Paragraph E at the end of this notice.

14. ISO New England Inc.

[Docket No. ER02-233-000]

Take notice that on November 1, 2001, ISO New England Inc. (IS) made a filing with the Federal Energy Regulatory Commission (Commission) under section 205 of the Federal Power Act of changes to its Capital Funding Tariff. The ISO requests that the changes to the Capital Funding Tariff be allowed to go into effect on January 1, 2002.

Copies of the transmittal letter were served upon all Participants in the New England Power Pool (NEPOOL), as well as on the governors and utility regulatory agencies of the six New England States, and NECPUC. Participants were also served with the entire filing electronically. The entire filing is posted on the ISO's web site (www.iso-ne.com).

Comment date: November 23, 2001, in accordance with Standard Paragraph E at the end of this notice.

15. LTV Steel Mining Company

[Docket No. ER02-234-000]

Take notice that on November 1, 2001, LTV Steel Mining Company filed with the Federal Energy Regulatory Commission (Commission) an Agreement for Temporary Interconnection and Transmission Service under which it proposes to provide temporary interconnection and transmission service to Rainy River Energy Corporation—Taconite Harbor over its transmission facilities.

Comment date: November 23, 2001, in accordance with Standard Paragraph E at the end of this notice.

16. PJM Interconnection, L.L.C.

[Docket No. ER02-235-000]

Take notice that on November 1, 2001, PJM Interconnection, L.L.C. (PJM) tendered for filing with the Federal Energy Regulatory Commission (Commission) conforming changes and minor revisions to the PJM Open Access Transmission Tariff (PJM Tariff) and the Amended and Restated Operating Agreement of PJM Interconnection, L.L.C. (Operating Agreement) to fully reflect all previous changes to the current version of the Tariff and Operating Agreement in the versions of the Tariff and Operating Agreement that encompass both PJM and PJM West, which will take effect on January 1, 2002. PJM states that, except for certain conforming changes, typographical errors, and other minor changes, all of the submitted changes previously have been filed with the Commission, and have either been approved or are awaiting Commission action.

Copies of this filing have been served on all PJM Members and the state electric regulatory commissions in the PJM control area.

Comment date: November 23, 2001, in accordance with Standard Paragraph E at the end of this notice.

17. Geysers Power Company, L.L.C.

[Docket No. ER02-236-000]

Take notice that on November 1, 2001, Geysers Power Company, L.L.C. (Geysers Power), tendered for filing with the Federal Energy Regulatory Commission (Commission) its updated Rate Schedules for the calendar year 2002 for Reliability Must-Run services provided to the California Independent System Operator Corporation (CAISO) pursuant to the Geysers Main RMR Agreement accepted by the Commission in California ISO Corp., et al., 87 FERC 61,250 (1999).

Copies of this filing have been served upon the CAISO and Pacific Gas and Electric Company.

Comment date: November 23, 2001, in accordance with Standard Paragraph E at the end of this notice.

18. Southern California Edison Company

[Docket No. ER02-238-000]

Take notice that on November 1, 2001, Southern California Edison Company (SCE) tendered for filing a revision to its Transmission Owner Tariff (TO Tariff), FERC Electric Tariff, Substitute First Revised Original Volume No. 6. The proposed revision changes SCE's rates charged for Reliability Services, which recover Reliability Services costs billed directly to SCE as a Participating Transmission Owner (PTO) by the California Independent System Operator (ISO).

Copies of this filing were served upon the Public Utilities Commission of the State of California, the California Independent System Operator, the California Electricity Oversight Board, Pacific Gas and Electric Company, San Diego Gas & Electric Company, and the wholesale customers with loads in SCE's historic control area.

Comment date: November 23, 2001, in accordance with Standard Paragraph E at the end of this notice.

19. Duke Energy South Bay L.L.C.

[Docket No. ER02-239-000]

Take notice that on November 1, 2001, Duke Energy South Bay, L.L.C. (DESB) tendered for filing revisions to its Reliability Must Run Service Agreement (RMR Agreement) with the California Independent System Operator (CAISO). The revisions are being made to (1) amend schedule A, section 3 of Duke South Bay's Must-Run Schedule to reflect Monthly Reserved MWh for Air Emission Limitations and section 12 of Duke South Bay's Must-Run Schedule to reflect Contract Service Limits for the year beginning January 1, 2002; (2) amend schedule B of Duke South Bay's Must-Run Schedule to reflect the Hourly Availability Rate, Hourly Penalty Rate, Target Available Hours and Annual Fixed Revenue Requirement; and (3) amend schedule D of Duke South Bay's Must-Run Schedule to reflect the Prepaid Start-ups for the year beginning January 1, 2002.

DESB requests an effective date of January 1, 2002 for these revisions. Copies of the filing have been served upon the CAISO, and the California Public Utilities Commission.

Comment date: November 23, 2001, in accordance with Standard Paragraph E at the end of this notice.

20. Duke Energy Oakland, L.L.C.

[Docket No. ER02-240-000]

Take notice that on November 1, 2001, Duke Energy Oakland, L.L.C. (DEO) tendered for filing with the Federal Energy Regulatory Commission (Commission) revisions to its Reliability Must Run Service Agreement (RMR Agreement) with the California Independent System Operator (CAISO). The revisions are being made to (1) amend schedule A, section 12 of DEO's Must-Run Schedule to reflect Contract Service Limits for the year beginning January 1, 2002; (2) amend schedule B of DEO's Must-Run Schedule to reflect the Hourly Availability Rate, Hourly Penalty Rate, Target Availability Hours and Annual Fixed Revenue Requirement; and (3) amend schedule D of DEO's Must-Run Schedule to reflect the Prepaid Start-ups for the year beginning January 1, 2002.

DEO requests effective date of January 1, 2002 for these revisions. Copies of the filing have been served upon the CAISO, and the California Public Utilities Commission.

Comment date: November 23, 2001, in accordance with Standard Paragraph E at the end of this notice.

21. New England Power Company

[Docket No. ER02-241-000]

Take notice that on November 1, 2001, New England Power Company (NEP) tendered for filing with the Federal Energy Regulatory Commission (Commission) First Revised Service Agreement No. 23 for Network Integration Service under NEP's Open Access Transmission Tariff, FERC Electric Tariff, Second Revised Volume No. 9 between NEP and Granite State Electric Company. NEP states that this filing has been served upon Granite State Electric Company and regulators in the States of Massachusetts, New Hampshire, and Vermont. NEP has requested an effective date of October 3, 2001.

Comment date: November 23, 2001, in accordance with Standard Paragraph E at the end of this notice.

22. Commonwealth Edison Company

[Docket No. ER02-242-000]

Take notice that on November 1, 2001 Commonwealth Edison Company (ComEd) submitted for filing with the Federal Energy Regulatory Commission (Commission) a Service Agreement for Network Integration Transmission Service (NSA) and a Network Operating Agreement (NOA) between ComEd and MidAmerican Energy Company (MidAmerican). These agreements govern ComEd's provision of network service to serve retail load under the terms of ComEd's Open Access Transmission Tariff (OATT).

ComEd requests an effective date of November 1, 2001, and therefore, seeks waiver of the Commission's notice requirements. Copies of this filing were served on MidAmerican.

Comment date: November 23, 2001, in accordance with Standard Paragraph E at the end of this notice.

23. Southern California Edison Company

[Docket No. ER02-243-000]

Take notice, that on November 1, 2001, Southern California Edison Company (SCE) tendered for filing with the Federal Energy Regulatory Commission (Commission) a revised Service Agreement between SCE and Southern California Water Company (SCWC) for Wholesale Distribution Service under the terms and conditions of SCE's Wholesale Distribution Access Tariff (WDAT), FERC Rate Schedule Original Volume No. 5. The purpose of this revision is to reflect the charge for such service which formerly had been reflected as a component of SCE's demand charge under its Partial Requirements Tariff with SCWC. The Partial Requirements Tariff terminates effective at midnight on December 31, 2001.

SCE requests that the revised WDAT Service Agreement become effective on January 1, 2002. Copies of this filing were served upon the Public Utilities Commission of the State of California and SCWC.

Comment date: November 23, 2001, in accordance with Standard Paragraph E at the end of this notice.

24. Idaho Power Company

[Docket No. ER02-244-000]

Take notice that on November 1, 2001, Idaho Power Company filed a notice with the Federal Energy Regulatory Commission (Commission) of cancellation of its Generator Interconnection and Operating Agreement with Watts United Power, L.L.C., under its open access transmission tariff in the above-captioned proceeding.

Comment date: November 23, 2001, in accordance with Standard Paragraph E at the end of this notice.

25. North American Energy, L.L.C.

[Docket No. ER02-245-000]

Take notice that on November 1, 2001, North American Energy, L.L.C. (North American) petitioned the Federal Energy Regulatory Commission (Commission) for acceptance of North American Rate Schedule FERC No. 1; the granting of certain blanket approvals, including the authority to sell electricity at market-based rates; and the waiver of certain Commission regulations.

North American intends to engage in wholesale electric power and energy purchases and sales as a marketer.

Comment date: November 23, 2001, in accordance with Standard Paragraph E at the end of this notice.

26. Boston Edison Company, Cambridge Electric Light Company, Commonwealth Electric Company

[Docket No. ER02-246-000]

Take notice that on November 1, 2001, Boston Edison Company (BECo), Cambridge Electric Light Company (Cambridge) and Commonwealth Electric Company (Commonwealth) (collectively, the NSTAR Companies), tendered for filing with the Federal Energy Regulatory Commission (Commission) new market-based rate tariffs, including a form of umbrella service agreement (Tariffs).

The NSTAR Companies request waiver of the Commission's notice of filing requirements to allow the Tariffs to become effective on November 2, 2001, the day after filing. Alternatively, the NSTAR Companies ask the Commission to allow each of the new Tariffs to become effective on January 1, 2002, which is sixty days from now. The NSTAR Companies state that they served copies of the filing on the Massachusetts Department of Telecommunications and Energy.

Comment date: November 23, 2001, in accordance with Standard Paragraph E at the end of this notice.

27. Alliant Energy Corporate Services, Inc.

[Docket No. ER02-247-000]

Take notice that on November 1, 2001, Alliant Energy Corporate Services, Inc. tendered for filing with the Federal Energy Regulatory Commission (Commission) Service Agreement with GEN-SYS establishing GEN-SYS as a Short-Term Firm -Point-To-Point transmission customer under the terms of the Alliant Energy Corporate Services, Inc. Open Access Transmission Tariff.

Alliant Energy Corporation Services, Inc. requests an effective date of June 1, 2001, and accordingly, seeks waiver of the Commission's notice requirements. A copy of this filing has been served upon the Illinois Commerce Commission, the Minnesota Public Utilities Commission, the Iowa Department of Commerce, and the Public Service Commission of Wisconsin.

Comment date: November 23, 2001, in accordance with Standard Paragraph E at the end of this notice.

28. Cinergy Services, Inc.

[Docket No.ER02-248-000]

Take notice that on November 1, 2001, Cinergy Services, Inc. (Cinergy) tendered for filing with the Federal Energy Regulatory Commission (Commission) a Notice of Name Change from FirstEnergy Services Corp. to FirstEnergy Solutions Corp. Cinergy respectfully requests waiver of notice to permit the Notice of Name Change to be made effective as of the date of the Notice of Name Change.

A copy of the filing was served upon FirstEnergy Solutions Corp.

Comment date: November 23, 2001, in accordance with Standard Paragraph E at the end of this notice.

29. ISO New England Inc.

[Docket No. ER02-249-000]

Take notice that on November 1, 2001, ISO New England Inc. (ISO) made a filing under section 205 of the Federal Power Act of revised tariff sheets for recovery of its administrative costs for 2002. The ISO requests that these sheets be allowed to go into effect on January 1, 2002.

Copies of the transmittal letter were served upon all Participants in the New England Power Pool (NEPOOL) and all non-Participant entities that are customers under the NEPOOL Open Access Transmission Tariff, as well as on the governors and utility regulatory agencies of the six New England States, and NECPUC. Participants were also served with the entire filing electronically. The entire filing is posted on the ISO's website (www.iso-ne.com).

Comment date: November 23, 2001, in accordance with Standard Paragraph E at the end of this notice.

30. Allegheny Energy Service Corporation, on behalf of Monongahela Power Company, The Potomac Edison Company, and West Penn Power Company (Allegheny Power)

[Docket No. ER02-253-000]

Take notice that on November 1, 2001, Allegheny Energy Service Corporation on behalf of Monongahela Power Company, The Potomac Edison Company and West Penn Power Company (Allegheny Power), filed Service Agreement Nos. 361 and 362 to add Dominion Nuclear Marketing II, Inc. to Allegheny Power's Open Access Transmission Service Tariff which has been accepted for filing by the Federal Energy Regulatory Commission (Commission ) in Docket No. ER96-58-000.

The proposed effective date under the Service Agreements is October 31, 2001 or a date ordered by the Commission. Copies of the filing have been provided to all parties of record.

Comment date: November 23, 2001, in accordance with Standard Paragraph E at the end of this notice.

31. Mississippi Power Company

[Docket No. ER02-259-000]

Take notice that on October 30, 2001, Mississippi Power Company filed with the Federal Energy Regulatory Commission (Commission) a notice of cancellation of Mississippi Power Company Rate Schedule FERC No. 145. The rate schedule concerns a transmission facilities agreement with Alabama Power Company dated September 30, 1994 under which certain transmission facilities would be built by Mississippi Power Company from its Plant Daniel facility for use by Alabama Power Company for reliability purposes. This agreement terminated pursuant to its own terms. A termination effective as of May 31, 2001 has been requested. Notice of the proposed cancellation has been served upon Alabama Power Company and the Mississippi Public Service Commission.

Comment date: November 20, 2001, in accordance with Standard Paragraph E at the end of this notice.

Standard Paragraph

E. Any person desiring to be heard or to protest such filing should file a motion to intervene or protest with the Federal Energy Regulatory Commission, 888 First Street, NE., Washington, DC 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of this filing are on file with the Commission and are available for public inspection. This filing may also be viewed on the web at http://www.ferc.gov using the “RIMS” link, select “Docket #” and follow the instructions (call 202-208-2222 for assistance). Comments, protests and interventions may be filed electronically via the Internet in lieu of paper. See, 18 CFR 385.2001(a)(1)(iii) and the instructions on the Commission's web site under the “e-Filing” link.

Linwood A. Watson, Jr.,
Acting Secretary.

[FR Doc. 01-28423 Filed 11-13-01; 8:45 am]

BILLING CODE 6717-01-P